DEPARTMENT OF COMMERCE

National Oceanic and Atmospheric Administration

[I.D. 102604D]

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on November 16-18, 2004, to consider actions affecting New England fisheries in the exclusive economic zone (EEZ).

DATES: The Executive Committee will meet on Tuesday, November 16 at 8:30 a.m. The Council meeting will be held on Tuesday, November 16, 2004 beginning at 9:45 a.m. and on Wednesday and Thursday, November 17 and 18, beginning at 8:30 a.m.

ADDRESSES: The meeting will be held at the Courtyard by Marriott, 1000 Market Street, Portsmouth, NH 03801; telephone: (603) 436-2121.

Council address: New England Fishery Management Council, 50 Water Street, Mill 2, Newburyport, MA 01950.

FOR FURTHER INFORMATION CONTACT: Paul J. Howard, Executive Director, New England Fishery Management Council, telephone: (978) 465-0492.

SUPPLEMENTARY INFORMATION:

Tuesday, November 16, 2004

The Executive Committee will meet from 8:30 a.m. until 9:30 a.m. to discuss the identification of terms of reference for the Council's new ad hoc Bycatch Committee. The Council will convene at 9:45 a.m. and following introductions, the Council's Scallop Committee will seek approval of initial action on Framework Adjustment 17 to the Sea Scallop Fishery Management Plan (FMP); a range of alternatives will be selected which would require some or all vessels with general category scallop permits to operate vessel monitoring system equipment. The Council will then receive an update on the Northeast Region Bycatch Plan by NMFS staff. The afternoon period will include a report on the “Strategy of Sea Turtle Conservation and Recovery in Relation to Atlantic Ocean and Gulf of Mexico Fisheries” by NMFS staff. Following the report, the Council will consider and approve management actions for 2005, including a discussion of eliminating the process of joint fishery management plan development (for dogfish and monkfish). This discussion will be followed by a report by the Research Steering Committee seeking the Council's consideration and approval of committee recommendations for 2005 Council research priorities. The last item on the agenda will be a brief public comment period during which any member of the public may bring forward items relevant to Council business but not otherwise listed on the agenda for this meeting.

Wednesday, November 17, 2004

During the Wednesday morning session the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission. Following reports will be a presentation on Harvesting Cooperatives and Cooperative Management by Dr. Ralph Townsend. The Groundfish Committee will then ask for final approval on Framework Adjustment 40B to the Northeast Multispecies FMP. This will occur following the review and discussion of Groundfish Advisory Panel and Oversight Committee recommendations and selection of final measures. The Committee will then initiate a framework adjustment to reduce the expected haddock bycatch in all fisheries from the very large haddock 2003-year class.

Thursday, November 18, 2004

The Herring Committee will review measures under consideration in Amendment 1 to the FMP and approve management alternatives for further analysis in the accompanying Draft Supplemental Environmental Impact Statement; management alternatives may include measures to establish a limited access program for some or all of the herring fishery, effort control measures, changes to the start of the herring fishing year and measures to establish a purse seine/fixed gear-only area in some or all of the inshore Gulf of Maine. Following this report will be the consideration and approval of New England Council recommendations for spiny dogfish fishery specifications for the 2005-06 fishing year. The Council meeting will adjourn after any other outstanding business is addressed.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 27, 2004.
Alan D. Risenhoover,
Acting Director, Office of Sustainable Fisheries, National Marine Fisheries Service.

[FR Doc. E4-2930 Filed 10-29-04; 8:45 am]

BILLING CODE 3510-22-S